FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
003704F | American One Freight Forwarders Inc., 3515 NW. 114th Avenue, Doral, FL 33178 | June 23, 2011.
017807N | Spartan Shipping, Inc., 9990 NW. 14th Street, Unit 104, Miami, FL 33172 | June 23, 2011.
019835N | AM Worldwide, Inc., 2928 B Greens Road, Suite 450, Houston, TX 77032 | June 3, 2011.
022605N | AK Solutions Inc., 10034 Halston Drive, Sugarland, TX 77498 | June 2, 2011.

Sandra L. Kusumoto,
Director, Bureau of Certification and Licensing.

[FR Doc. 2011-20493 Filed 8-11-11; 8:45 am]

BILLING CODE 6730-01-P